FEDERAL MARITIME COMMISSION

Ocean Transportation Intermediary License; Rescission of Order of Revocation

Notice is hereby given that the Order revoking the following licenses are being rescinded by the Federal Maritime Commission pursuant to section 19 of the Shipping Act of 1984 (46 U.S.C. chapter 409) and the regulations of the Commission pertaining to the licensing of Ocean Transportation Intermediaries, 46 CFR part 515.

License Number: 015605N.

Name: Solid Trans Inc.

Address: 1401 S. Santa Fe Avenue, Compton, CA 90221.

Order Published: FR: 7/25/11 (Volume 76, No. 142, Pg. 44331-44332).

License Number: 019364NF.

Name: New Life Health Care Services, LLC dba New Life Marine Services.

Address: 3527 Brackenfern Road, Katy, TX 77449.

Order Published: FR: 7/25/11 (Volume 76, No. 142, Pg. 44331-44332).

License Number: 020297N.

Name: Lorimer Cargo Express, Inc.

Address: 6546 Pembroke Road, Miramar, FL 33023.

Order Published: FR: 7/25/11 (Volume 76, No. 142, Pg. 44331-44332).

Sandra L. Kusumoto,
Director, Bureau of Certification and Licensing.

[FR Doc. 2011-20492 Filed 8-11-11; 8:45 am]

BILLING CODE 6730-01-P